SECURITIES AND EXCHANGE COMMISSION

[File No. 500-1]

Global Diamond Exchange, Inc.; Order of Suspension of Trading

July 31, 2008.

It appears to the Securities and Exchange Commission that the public interest and the protection of investors require a suspension of trading in the securities of Global Diamond Exchange, Inc. (“Global Diamond”) because there is a lack of current and accurate information concerning its securities. Questions have arisen concerning the company's current business operations, control of the company, and the company's reliance on Rule 504 of Regulation D of the Securities Act of 1933 in conducting a distribution of its securities. Global Diamond, a company that has made no public filings with the Commission, is quoted on the Pink Sheets under the ticker symbol GBDX.

The Commission is of the opinion that the public interest and the protection of investors require a suspension of trading in the securities of the above-listed company.

Therefore, it is ordered, pursuant to Section 12(k) of the Securities Exchange Act of 1934, that trading in the above-listed company is suspended for the period from 9:30 a.m. EDT, July 31, 2008, through 11:59 p.m. EDT, on August 13, 2008.

By the Commission.
Florence E. Harmon,
Acting Secretary.

[FR Doc. E8-17896 Filed 7-31-08; 11:15 am]

BILLING CODE 8010-01-P